AGENCY FOR INTERNATIONAL DEVELOPMENT

Background Investigator Quality Control Survey

AGENCY: Agency for International Development (USAID).

ACTION: Availability of survey.

SUMMARY: Quality control survey to allow the USAID Office of Security Field Investigations program to obtain feedback on its background investigator workforce from members of the general public who are interviewed by USAID background investigators.

DATES: Comments are due within 60 days after date of publication in the Federal Register.

ADDRESSES: USAID, SEC/FI, 1300 Pennsylvania Ave. NW, 4th Floor, Washington, DC 20523.

FOR FURTHER INFORMATION CONTACT: Brian Shemonsky, (202) 712-1734, bshemonsky@usaid.gov.

SUPPLEMENTARY INFORMATION: USAID currently conducts this quality control process via U.S. Mail and telephone calls. The agency is seeking to both modernize and simplify this process.

Brian Shemonsky,
Background Investigations Program Manager.

[FR Doc. 2023-19694 Filed 9-12-23; 8:45 am]

BILLING CODE 6116-01-P